DEPARTMENT OF THE INTERIOR

Fish and Wildlife Service

[FWS-R9-MB-2010-N069] [91200-1232-0000-P2]

Proposed Information Collection; OMB Control Number 1018-0022; Federal Fish and Wildlife License/Permit Applications and Reports, Migratory Birds

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2010. We may not conduct or sponsor and a person is not required to respond to a collection of information unless it displays a currently valid OMB control number.

DATES: To ensure that we are able to consider your comments on this IC, we must receive them by June 7, 2010.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in Chapter I, Subchapter B of Title 50 Code of Federal Regulations (CFR). These regulations stipulate general and specific requirements that, when met, allow us to issue permits to authorize activities that are otherwise prohibited. This revised IC includes migratory bird permit applications and the reports associated with the permits.

This IC includes four permit application and report forms that are currently approved under OMB Control Number 1018-0136. Once OMB takes action on this IC, we will discontinue OMB Control No. 1018-0136.

• 3-200-71—Eagle Take (Disturb).

• 3-200-72—Eagle Nest Take.

• 3-202-15—Eagle Take Monitoring and Annual Report.

• 3-202-16—Eagle Nest Take Monitoring and Reporting.

In addition, we plan to add three new forms:.

• FWS Form 3-200-81 (Special Purpose-Utility) will provide an application specifically tailored for utilities (e.g., power, communications) to request permits to salvage migratory birds on their property and rights-of-way.

• FWS Form 3-200-82 (Eagle Transport Into and Out of the United States) will provide an application for permits under the Bald and Golden Eagle Protection Act to transport dead eagle specimens into and out of the country temporarily for scientific or exhibition purposes, such as for museum exhibits.

• FWS Form 3-202-17 (Special Purpose-Utility Annual Report) will provide a standardized annual report form for Special Purpose-Utility permits.

II. Data

OMB Control Number: 1018-0022.

Title: Federal Fish and Wildlife Permit Applications and Reports—Migratory Birds and Eagles, 50 CFR 10, 13, 21, and 22.

Service Form Number(s): 3-200-6 through 3-200-18, 3-200-67, 3-200-68, 3-200-71, 3-200-72, 3-200-77, 3-200-78, 3-200-79, 3-200-81, 3-200-82, 3-202-1 through 3-202-17, 3-186, and 3-186A.

Type of Request: Revision of a currently approved information collection.

Affected Public: Individuals; zoological parks; museums; universities; scientists; taxidermists; businesses; and Federal, State, tribal, and local governments.

Respondent's Obligation: Required to obtain or retain a benefit.

Frequency of Collection: On occasion for applications; annually or on occasion for reports.

Estimated Nonhour Cost Burden: $1,043,600 for fees associated with permit applications.

Activity | Number of annual respondents | Number of annual responses | Completion time per response | Annual burden hours*
3-200-6 - Import/Export | 75 | 75 | 1 hour | 75
3-200-7 - Scientific Collecting | 200 | 200 | 5 hours | 1,000
3-200-8 - Taxidermy | 700 | 700 | 2 hours | 1,400
3-200-9 - Waterfowl Sale and Disposal | 300 | 300 | 1.5 hours | 450
3-200-10a - Special Purpose Salvage | 300 | 300 | 1.5 hours | 450
3-200-10b - Rehabilitation | 200 | 200 | 12 hours | 2,400
3-200-10c - Special Purpose Education Possession/Live | 250 | 250 | 4.5 hours | 1,125
3-200-10d - Special Purpose Education Possession/Dead | 100 | 100 | 2.5 hours | 250
3-200-10e - Special Purpose Game Bird Propagation | 20 | 20 | 1.5 hours | 30
3-200-10f - Special Purpose Miscellaneous | 50 | 50 | 2.5 hours | 125
3-200-11 - Falconry | 700 | 700 | 1.25 hours | 875
3-200-12 - Raptor Propagation | 50 | 50 | 4 hours | 200
3-200-13 - Depredation | 2,720 | 2,720 | 2.9 hours** | 7,888
3-200-14 - Bald and Golden Eagle Exhibition | 135 | 135 | 5.5 hours | 743
3-200-15a - Eagle Parts for Native American Religious Purposes - Permit Application First Order and Tribal Enrollment Certification | 1,830 | 1,830 | 1 hour | 1,830
3-200-15b - Eagle Parts for Native American Religious Purposes - Reorder Request | 900 | 900 | 20 minutes | 300
3-200-16 - Take of Depredating Eagles | 30 | 30 | 3.5 hours | 105
3-200-17 - Eagle Falconry | 10 | 10 | 3.25 hours | 33
3-200-18 - Take of Golden Eagle Nests | 2 | 2 | 6.5 hours | 13
3-200-67 - Special Canada Goose | 5 | 5 | 7 hours | 35
3-200-68 - Renewal of a Permit | 4,500 | 4,500 | 1.5 hours | 6,750
3-200-71 - Eagle Take | 500 | 500 | 16 hours | 8,000
3-200-72 - Eagle Nest Take | 100 | 100 | 16 hours | 1,600
3-200-71 and 72 - Permit Amendments | 40 | 40 | 6 hours | 240
3-200-71 and 72 - Programmatic Permit | 26 | 26 | 40 hours | 1,040
3-200-71 and 72 - Programmatic Permit Amendments | 10 | 10 | 20 hours | 200
3-200-77 - Native American Eagle Take | 10 | 10 | 2.25 hours | 22
3-200-78 - Native American Eagle Aviary | 5 | 5 | 5 hours | 25
3-200-79 - Special Purpose - Abatement Activities Using Raptors* | 25 | 25 | 2.5 hours | 63
3-200-81—Special Purpose—Utility | 30 | 30 | 2 hours | 60
3-200-82—Eagle Transport Into and Out of United States | 10 | 10 | 1 hour | 10
3-202-1 - Scientific Collecting Annual Report | 600 | 600 | 1 hour | 600
3-202-2 - Waterfowl Sale and Disposal Annual Report | 1,050 | 1,050 | 30 minutes | 526
3-202-3 - Special Purpose Salvage Annual Report | 1,850 | 1,850 | 1 hour | 1,850
3-202-4 - Rehabilitation Annual Report | 1,650 | 1,650 | 3 hours | 4,950
3-202-5 - Possession for Education Annual Report | 1,225 | 1,225 | 1.5 hours | 1,838
3-202-6 - Special Purpose Game Bird Annual Report | 95 | 95 | 30 minutes | 48
3-202-7 - Special Purpose Miscellaneous Annual Report | 125 | 125 | 30 minutes | 63
3-202-8 - Raptor Propagation Annual Report | 440 | 440 | 1 hour | 440
3-202-9 - Depredation Annual Report | 2,550 | 2,550 | 1 hour | 2,550
3-200-10 - Special State Canada Goose Annual Report | 20 | 20 | 1 hour | 20
3-202-11 - Eagle Depredation Annual Report | 60 | 60 | 1 hour | 60
3-202-12 - Special Purpose Possession (Education) Annual Report | 1,225 | 1,225 | 1.5 hours | 1,838
3-202-13 - Eagle Exhibition Annual Report | 700 | 700 | 1 hour | 700
3-202-14 - Native American Eagle Aviary Annual Report | 10 | 10 | 30 minutes | 5
3-202-15—Eagle Take Monitoring and Annual Report | 1,120 | 1,120 | 30 hours | 33,600
3-202-16—Eagle Nest Take Monitoring and Reporting | 40 | 40 | 16 hours | 640
3-202-17—Special Purpose-Utility Annual Report | 100 | 100 | 1 hour | 100
3-186 - Notice of Transfer or Sale of Migratory Waterfowl | 1,050 | 12,900 | 15 minutes | 3,159
3-186A - Migratory Bird Acquisition and Disposition Report | 4,660 | 18,640 | 15 minutes | 4,659
Totals | 32,403 | 58,233 |  | 94,983

* Rounded

** Completion time varies from 1.5 hours for individuals to 3 hours for businesses. Average completion time is 2.9 hours.

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: March 30, 2010
Hope Grey,
Information Collection Clearance Officer, Fish and Wildlife Service.

FR Doc. 2010-7807 Filed 4-6-10; 8:45 am

BILLING CODE 4310-55-S